DEPARTMENT OF COMMERCE

National Oceanic and Atmospheric Administration

[I.D. 050102B]

Gulf of Mexico Fishery Management Council; Public Meetings

AGENCY: National Marine Fisheries Service (NMFS), National Oceanic and Atmospheric Administration (NOAA), Commerce.

ACTION: Notice of public meeting.

SUMMARY: The Gulf of Mexico Fishery Management Council will convene a public meeting for a stakeholders workshop.

DATES: A stakeholders workshop on bioeconomic modeling will be held beginning at 8:30 a.m. on Wednesday, May 22, 2002, and will conclude at 4 p.m. on Friday, May 24, 2002.

ADDRESSES: The meeting will be held at the Tampa Airport Hilton Hotel, 2225 Lois Avenue, Tampa, FL 33607; telephone 813-877-6688.

FOR FURTHER INFORMATION CONTACT: Antonio B. Lamberte, Economist, Gulf of Mexico Fishery Management Council, 813-228-2815.

Council address: Gulf of Mexico Fishery Management Council, 3018 U.S. Highway 301 North, Suite 1000, Tampa, FL 33619.

SUPPLEMENTARY INFORMATION: A stakeholders workshop on bioeconomic modeling will be convened to address the economic impacts of regulations proposed for red grouper under Secretarial Amendment 1 to the Reef Fish Fishery Management Plan. A bioeconomic modeling group composed of some members of the Socioeconomic Panel (SEP), a member of the Reef Fish Stock Assessment Panel, and NMFS economists will lead the workshop. The modeling group will be assisted by NMFS stock assessment experts on the biological portion of the model. Dr. Walter Keithly, a SEP member, will act as the moderator for the workshop.

The main goal of the workshop is to adapt a bioeconomic model developed by Dr. Lee Anderson to the red grouper fishery in the Gulf. The public is strongly encouraged to attend and assist the modeling group in assessing the reasonableness of various parameters that would be used in the bioeconomic model. It should be understood by the attending public that while their active participation in the discussion is encouraged, the workshop is not a public hearing on the red grouper Secretarial amendment. A copy of the agenda can be obtained by calling 813-228-2815.

Upon successful adaptation of Dr. Anderson’s bioeconomic model to the Gulf red grouper fishery, the SEP will employ the model to address the economic implications of various measures proposed for the red grouper Secretarial amendment. The SEP will meet on June 12-14, 2002, to evaluate the results of the model and prepare a report for review by the Reef Fish Advisory Panel and the Standing Scientific and Statistical Committee. The SEP report and its various reviews will be presented to the Council at their July 8-12, 2002, meeting when they will make final decisions on the red grouper Secretarial amendment.

Although other non-emergency issues not on the agendas may come before the workgroup for discussion, in accordance with the Magnuson-Stevens Fishery Conservation and Management Act, those issues may not be the subject of formal action during these meetings. Actions of the workgroup will be restricted to those issues specifically identified in the agendas and any issues arising after publication of this notice that require emergency action under section 305(c) of the Magnuson-Stevens Act, provided the public has been notified of the Council's intent to take action to address the emergency.

Special Accommodations

The meeting is open to the public and is physically accessible to people with disabilities. Requests for sign language interpretation or other auxiliary aids should be directed to the Council office by May 15, 2002.

Dated: May 2, 2002.
Virginia M. Fay,
Acting Director, Office of Sustainable Fisheries, National Marine Fisheries Service.

[FR Doc. 02-11463 Filed 5-7-02; 8:45 am]

BILLING CODE 3510-22-S